DEPARTMENT OF TRANSPORTATION

Federal Aviation Administration

14 CFR Part 97

[Docket No. 30447; Amdt. No. 3124]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective June 16, 2005. The compliance date for each SIAP and/or Weather Takeoff Minimums is specified in the amendatory provisions.

The incorporation by reference of certain publications listed in the regulations is approved by the Director of the Federal Register as of June 16, 2005.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to title 14 of the Code of Federal Regulations, part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on June 3, 2005.
James J. Ballough,
Director, Flight Standards Service.

Adoption of the Amendment

Accordingly, pursuant to the authority delegated to me, under title 14, Code of Federal Regulations, part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 7 Jul 2005

Anchorage, AK, Ted Stevens Anchorage Intl, RNAV (GPS) RWY 7R, Amdt 2

Anchorage, AK, Ted Stevens Anchorage Intl, RNAV (GPS) RWY 7L, Amdt 1

Anchorage, AK, Ted Stevens Anchorage Intl, RNAV (GPS) RWY 14, Amdt 1

Anchorage, AK, Ted Stevens Anchorage Intl, ILS OR LOC/DME RWY 7R, Orig; ILS RWY 7R (CAT II); ILS RWY 7R (CAT III)

Anchorage, AK, Ted Stevens Anchorage Intl, ILS OR LOC/DME RWY 7L, Orig

Anchorage, AK, Ted Stevens Anchorage Intl, ILS RWY 14, Amdt 4

Anchorage, AK, Ted Stevens Anchorage Intl, NDB RWY 7R, Amdt 7

Anchorage, AK, Ted Stevens Anchorage Intl, VOR RWY 7R, Amdt 13

Anchorage, AK, Ted Stevens Anchorage Intl, ILS RWY 6L, Orig-A, CANCELLED

Anchorage, AK, Ted Stevens Anchorage Intl, ILS RWY 6R, Amdt 11C, CANCELLED

Anchorage, AK, Ted Stevens Anchorage Intl, MLS RWY 6L, Orig-B, CANCELLED

Cordova, AK, Merle K (Mudhole) Smith, Takeoff Minimums and Textual DP, Amdt 6

Tanana, AK, Ralph M. Calhoun Memorial, RNAV (GPS) RWY 7, Orig

Tanana, AK, Ralph M. Calhoun Memorial, GPS RWY 6, Orig, CANCELLED

Tuscaloosa, AL, Tuscaloosa Regional, NDB RWY 4, Amdt 10C, CANCELLED

Little Rock, AR, Adams Field, NDB RWY 4L, Amdt 19, CANCELLED

Little Rock, AR, Adams Field, NDB RWY 22R, Amdt 7A, CANCELLED

Mena, AR, Mena Intermountain Muni, ILS OR LOC RWY 27, Orig

Mena, AR, Mena Intermountain Muni, NDB RWY 27, Orig

Mena, AR, Mena Intermountain Muni, NDB-B, Amdt 8, CANCELLED

Mena, AR, Mena Intermountain Muni, Takeoff Minimums and Textual DP, Amdt 5

Paragould, AR, Kirk Field, NDB RWY 4, Amdt 1, CANCELLED

Texarkana, AR, Texarkana Regional-Webb Field, NDB RWY 22, Amdt 12A, CANCELLED

West Memphis AR, West Memphis Muni, NDB RWY 17, Amdt 10A, CANCELLED

Flagstaff, AZ, Flagstaff Pulliam, NDB/DME RWY 21, Amdt 1A, CANCELLED

Arcata-Eureka, CA, Arcata, NDB OR GPS-A, Amdt 7, CANCELLED

Bakersfield, CA, Meadows Field, NDB RWY 30R, Amdt 7, CANCELLED

Big Bear City, CA, Big Bear City, RNAV (GPS) RWY 26, Orig

Big Bear City, CA, Big Bear City, GPS RWY 26, Orig, CANCELLED

Burbank, CA, Bob Hope, NDB RWY 8, Amdt 2C, CANCELLED

Monterey, CA, Monterey Peninsula, NDB RWY 10R, Amdt 12B, CANCELLED

Ontario, CA, Ontario Intl, NDB RWY 26L, Amdt 3A, CANCELLED

San Diego, CA, San Diego Intl-Lindbergh Field, NDB RWY 9, Amdt 19C, CANCELLED

San Diego, CA, San Diego Intl-Lindbergh Field, NDB RWY 27, Amdt 1D, CANCELLED

San Francisco, CA, San Francisco Intl, LDA PRM RWY 28R, SIMULTANEOUS CLOSE PARALLEL Orig-B

San Francisco, CA, San Francisco Intl, ILS PRM RWY 28L, SIMULTANEOUS CLOSE PARALLEL Orig-B

Denver, CO, Denver Intl, ILS OR LOC RWY 8, Amdt 4

Denver, CO, Denver Intl, ILS OR LOC RWY 17L, Amdt 3

Hayden, CO, Yampa Valley, ILS OR LOC/DME Y RWY 10, Amdt 2

Hartford, CT, Hartford-Brainard, NDB RWY 2, Amdt 2B, CANCELLED

Georgetown, DE, Sussex County, RNAV (GPS) RWY 4, Amdt 1

Georgetown, DE, Sussex County, RNAV (GPS) RWY 22, Amdt 1

Wilmington, DE, New Castle County, NDB RWY 1, Amdt 18A, CANCELLED

Washington, DC, Washington Dulles Intl, NDB RWY 1R, Amdt 17A, CANCELLED

Washington, DC, Ronald Reagan Washington National, NDB OR GPS RWY 1, Amdt 11, CANCELLED

Daytona Beach, FL, Daytona Beach Intl, NDB RWY 7L, Amdt 26A, CANCELLED

Fort Lauderdale, FL, Fort Lauderdale-Hollywood Intl, RNAV (GPS) RWY 9R, Amdt 1

Gainesville, FL, Gainesville Rgnl, RNAV (GPS) RWY 11, Amdt 1

Gainesville, FL, Gainesville Rgnl, RNAV (GPS) RWY 29, Amdt 1

Jacksonville, FL, Jacksonville Intl, NDB RWY 31, Orig-C, CANCELLED

Orlando, FL, Executive, VOR/DME RWY 7, Amdt 1B

Orlando, FL, Orlando Intl, RNAV (GPS) RWY 36L, Amdt 1

Pensacola, FL, Pensacola Regional, RNAV (GPS) RWY 8, Amdt 1

Pensacola, FL, Pensacola Regional, RNAV (GPS) RWY 26, Amdt 1

Pensacola, FL, Pensacola Regional, LOC/DME RWY 26, Orig

Sarasota (Bradenton), FL, Sarasota/Bradenton Intl, NDB RWY 32, Amdt 6C, CANCELLED

Tampa, FL, Tampa Intl, NDB OR GPS RWY 18L, Amdt 32A, CANCELLED

Vero Beach, FL, Vero Beach Muni, NDB RWY 11R, Amdt 3, CANCELLED

Vero Beach, FL, Vero Beach Muni, NDB RWY 29L, Amdt 1, CANCELLED

West Palm Beach, FL, Palm Beach Intl, NDB RWY 9L, Amdt 20, CANCELLED

West Palm Beach, FL, Palm Beach Intl, RNAV (GPS) RWY 9L, Amdt 1

West Palm Beach, FL, Palm Beach Intl, RNAV (GPS) RWY 13, Amdt 1

West Palm Beach, FL, Palm Beach Intl, RNAV (GPS) RWY 27R, Amdt 1

Augusta, GA, Augusta Regional At Bush Field, NDB RWY 17, Amdt 16, CANCELLED

Augusta, GA, Augusta Regional At Bush Field, NDB RWY 35, Amdt 29, CANCELLED

Brunswick, GA, Brunswick Golden Isles, NDB RWY 7, Amdt 10A, CANCELLED

Eastman, GA, Heart Of Georgia Regional, ILS OR LOC RWY 2, Orig

Macon, GA, Middle Georgia Regional, NDB RWY 5, Amdt 21, CANCELLED

Honolulu, HI, Honolulu Intl, NDB RWY 8L, Amdt 19B, CANCELLED

Ames, IA, Ames Muni, NDB RWY 1, Amdt 2, CANCELLED

Burlington, IA, Burlington Regional, NDB RWY 36, Amdt 8C, CANCELLED

Des Moines, IA, Des Moines Intl, NDB RWY 31, Amdt 20, CANCELLED

Fort Dodge, IA, Fort Dodge Regional Airport, NDB RWY 6, Amdt 6A, CANCELLED

Marshalltown, IA, Marshalltown Muni, NDB RWY 12, Amdt 8, CANCELLED

Mason City, IA, Mason City Muni, NDB RWY 35, Amdt 5A, CANCELLED

Belleville, IL, Scott AFB/Mid America, NDB RWY 32R, Orig-C, CANCELLED

Cahokia/St Louis, IL, St Louis Downtown, NDB RWY 30L, Amdt 1, CANCELLED

Chicago, IL, Chicago Midway, NDB RWY 4R, Amdt 12C, CANCELLED

Chicago, IL, Chicago Midway, NDB OR GPS RWY 31C, Amdt 14C, CANCELLED

Chicago/Waukegan, IL, Waukegan Regional, RNAV (GPS) RWY 5, Orig

Chicago/Waukegan, IL, Waukegan Regional, RNAV (GPS) RWY 23, Orig

Chicago/Waukegan, IL, Waukegan Regional, NDB RWY 23, Amdt 3

Chicago/Waukegan, IL, Waukegan Regional, VOR/DME RNAV RWY 5, Amdt 3

Decatur, IL, Decatur, NDB RWY 6, Amdt 6A, CANCELLED

Bedford, IN, Virgil I. Grissom Muni, NDB RWY 13, Amdt 8, CANCELLED

Bedford, IN, Virgil I. Grissom Muni, NDB RWY 31, Amdt 10, CANCELLED

Bloomington, IN, Monroe County, NDB RWY 35, Amdt 5, CANCELLED

Connersville, IN, Mettel Field, NDB RWY 18, Orig-A, CANCELLED

Elkhart, IN, Elkhart Muni, RNAV (GPS) RWY 9, Orig

Elkhart, IN, Elkhart Muni, RNAV (GPS) RWY 17, Orig

Elkhart, IN, Elkhart Muni, RNAV (GPS) RWY 27, Orig

Elkhart, IN, Elkhart Muni, RNAV (GPS) RWY 35, Orig

Elkhart, IN, Elkhart Muni, VOR RWY 9, Amdt 6

Elkhart, IN, Elkhart Muni, VOR RWY 27, Amdt 15

Elkhart, IN, Elkhart Muni, VOR/DME RWY 35, Amdt 4

Indianapolis, IN, Indianapolis Intl, NDB RWY 5L, Orig-B, CANCELLED

Indianapolis, IN, Indianapolis Intl, NDB RWY 5R, Amdt 2, CANCELLED

Indianapolis, IN, Indianapolis Intl, NDB RWY 23L, Amdt 2, CANCELLED

Indianapolis, IN, Indianapolis Intl, NDB RWY 32, Amdt 15, CANCELLED

Lafayette, IN, Purdue University, NDB RWY 10, Amdt 13, CANCELLED

South Bend, IN, South Bend Regional, RNAV (GPS) RWY 9R, Orig

South Bend, IN, South Bend Regional, RNAV (GPS) RWY 27L, Orig

South Bend, IN, South Bend Regional, NDB RWY 27L, Amdt 29

Terre Haute, IN, Terre Haute Intl-Hulman Field, NDB RWY 5, Amdt 19

Valparaiso, IN, Porter County Muni, NDB RWY 27, Amdt 6, CANCELLED

Goodland, KS, Renner Fld/Goodland Muni, NDB RWY 30, Amdt 7, CANCELLED

Hays, KS, Hays Regional, NDB RWY 34, Amdt 3, CANCELLED

Lawrence, KS, Lawrence Muni, NDB RWY 33, Amdt 1, CANCELLED

Olathe, KS, New Century Aircenter, NDB RWY 35, Amdt 6, CANCELLED

Olathe, KS, Johnson County Executive, NDB RWY 18, Amdt 4A, CANCELLED

Olathe, KS, Johnson County Executive, NDB RWY 36, Amdt 1A, CANCELLED

Topeka, KS, Forbes Field, NDB RWY 31, Amdt 8, CANCELLED

Topeka, KS, Philip Billard Muni, NDB RWY 13, Amdt 29, CANCELLED

Winfield/Arkansas City, KS, Strother Field, NDB RWY 35, Amdt 4, CANCELLED

Glasgow, KY, Glasgow Muni, NDB RWY 7, Amdt 11, CANCELLED

Lexington, KY, Blue Grass, NDB RWY 4, Amdt 21, CANCELLED

Lexington, KY, Blue Grass, NDB RWY 22, Orig, CANCELLED

Murray, KY, Kyle-Oakley Field, NDB RWY 23, Amdt 1, CANCELLED

Owensboro, KY, Owensboro-Daviess County, NDB RWY 36, Amdt 9, CANCELLED

Somerset, KY, Somerset-Pulaski County-J.T. Wilson Field, NDB RWY 4, Amdt 7, CANCELLED

Baton Rouge, LA, Baton Rouge Metropolitan-Ryan Field, NDB RWY 13, Amdt 25, CANCELLED

New Orleans, LA, Louis Armstrong/New Orleans Intl, NDB RWY 10 Amdt 26B, CANCELLED

Shreveport, LA, Shreveport Regional, NDB RWY 14, Amdt 20A, CANCELLED

Sulphur, LA, Southland Field, NDB RWY 15, Amdt 1C, CANCELLED

Tallulah, LA, Vicksburg Tallulah Rgnl, NDB RWY 36, Amdt 1, CANCELLED

Bangor, ME, Bangor Intl, NDB RWY 33, Amdt 5D, CANCELLED

Portland, ME, Portland Intl Jetport, NDB RWY 11, Amdt 16, CANCELLED

Baltimore, MD, Martin State, NDB RWY 15, Amdt 9, CANCELLED

Baltimore, MD, Martin State, NDB RWY 33, Amdt 8, CANCELLED

Gaithersburg, MD, Montgomery County Airpark, NDB RWY 14, Amdt 2

Boston, MA, General Edward Lawrence Logan Intl, NDB RWY 4R, Amdt 23A, CANCELLED

Boston, MA, General Edward Lawrence Logan Intl, NDB RWY 22L, Amdt 11A, CANCELLED

Hyannis, MA, Barnstable Muni-Boardman/Polando Field, NDB RWY 24, Amdt 9D, CANCELLED

Norwood, MA, Norwood Memorial, NDB RWY 35, Amdt 10, CANCELLED

Plymouth, MA, Plymouth Muni, NDB RWY 6, Amdt 4B, CANCELLED

Westfield, MA, Barnes Muni, NDB RWY 20, Amdt 15A, CANCELLED

Alma, MI, Gratiot Community, NDB RWY 9, Amdt 7, CANCELLED

Detroit, MI, Detroit Metropolitan Wayne County, NDB RWY 4R, Amdt 10F, CANCELLED

Detroit, MI, Detroit Metropolitan Wayne County, NDB RWY 27R, Amdt 10C, CANCELLED

Grand Rapids, MI, Gerald R. Ford Intl, NDB RWY 26L, Amdt 20A, CANCELLED

Saginaw, MI, MBS Intl, NDB RWY 5, Amdt 8, CANCELLED

Sault Ste Marie, MI, Chippewa County Intl, NDB RWY 16, Amdt 6, CANCELLED

Alexandria, MN, Chandler Field, NDB RWY 31, Amdt 5, CANCELLED

Duluth, MN, Duluth Intl, NDB RWY 9, Amdt 24, CANCELLED

Rochester, MN, Rochester International, NDB RWY 31, Amdt 22, CANCELLED

Columbia, MO, Columbia Regional, NDB RWY 2, Amdt 9, CANCELLED

Dexter, MO, Dexter Muni, NDB RWY 36, Amdt 1, CANCELLED

Kaiser/Lake Ozark, MO, Lee C Fine Memorial, NDB RWY 21, Amdt 6A, CANCELLED

Kansas City, MO, Kansas City Intl, NDB RWY 1L, Amdt 15A, CANCELLED

Kansas City, MO, Kansas City Intl, NDB RWY 9, Amdt 8A, CANCELLED

Kansas City, MO, Kansas City Intl, NDB RWY 19L, Orig-A, CANCELLED

St Joseph, MO, Rosecrans Memorial, NDB RWY 17, Amdt 8D, CANCELLED

St Joseph, MO, Rosecrans Memorial, NDB RWY 35, Amdt 28F, CANCELLED

Sedalia, MO, Sedalia Memorial, RNAV (GPS) RWY 18, Amdt 1

Sedalia, MO, Sedalia Memorial, RNAV (GPS) RWY 36, Amdt 1

Springfield, MO, Springfield-Branson Regional, NDB RWY 2, Amdt 17, CANCELLED

Springfield, MO, Springfield-Branson Regional, NDB RWY 14, Amdt 11A, CANCELLED

Jackson, MS, Jackson Intl, NDB RWY 16L, Amdt 5, CANCELLED

Meridian, MS, Key Field, NDB RWY 1, Amdt 19, CANCELLED

Oxford, MS, University Oxford, NDB RWY 9, Amdt 1A, CANCELLED

Beatrice, NE, Beatrice Municipal, NDB RWY 13, Amdt 8B, CANCELLED

Chadron, NE, Chadron Muni, NDB RWY 2, Amdt 1, CANCELLED

Columbus, NE, Columbus Muni, NDB RWY 14, Amdt 12A, CANCELLED

Omaha, NE, Eppley Airfield, NDB RWY 14R, Amdt 24D, CANCELLED

Omaha, NE, Eppley Airfield, NDB RWY 32L, Amdt 1B, CANCELLED

Wayne, NE, Wayne Muni, RNAV (GPS) RWY 17, Amdt 1

Wayne, NE, Wayne Muni, RNAV (GPS) RWY 35, Amdt 1

Concord, NH, Concord Muni, RNAV (GPS) RWY 12, Orig

Concord, NH, Concord Muni, RNAV (GPS) RWY 17, Orig

Concord, NH, Concord Muni, RNAV (GPS) RWY 35, Orig

Concord, NH, Concord Muni, GPS RWY 17, Orig, CANCELLED

Concord, NH, Concord Muni, NDB RWY 35, Amdt 6

Concord, NH, Concord Muni, VOR-A, Orig

Concord, NH, Concord Muni, VOR OR GPS RWY 12, Amdt 1, CANCELLED

Newark, NJ, Newark Liberty, NDB RWY 4R, Amdt 7, CANCELLED

Newark, NJ, Newark Liberty, NDB RWY 4L, Amdt 11, CANCELLED

Clovis, NM, Clovis Muni, NDB RWY 4, Amdt 4, CANCELLED

Las Cruces, NM, Las Cruces International, NDB RWY 30, Amdt 1, CANCELLED

Raton, NM, Raton Municipal/Crews Field, NDB RWY 2, Amdt 5, CANCELLED

Silver City, NM, Grant County, NDB RWY 26, Amdt 3B, CANCELLED

Elmira, NY, Elmira/Corning Regional, NDB RWY 24, Amdt 15, CANCELLED

Middletown, NY, Randall, NDB RWY 26, Amdt 1

New York, NY, LaGuardia, NDB RWY 4, Amdt 36A, CANCELLED

New York, NY, LaGuardia, NDB RWY 22, Amdt 12C, CANCELLED

Ogdensburg, NY, Ogdensburg Intl, NDB RWY 27, Amdt 1, CANCELLED

Rochester, NY, Greater Rochester Intl, NDB RWY 28, Amdt 20D, CANCELLED

Syracuse, NY, Syracuse Hancock Intl, NDB RWY 28, Amdt 28B, CANCELLED

Asheville, NC, Asheville Regional, NDB RWY 16, Amdt 15B, CANCELLED

Asheville, NC, Asheville Regional, NDB RWY 34, Amdt 18C, CANCELLED

Burlington, NC, Burlington-Alamance Regional, NDB RWY 6, Amdt 1, CANCELLED

Charlotte, NC, Charlotte/Douglas Intl, NDB RWY 5, Amdt 32, CANCELLED

Clinton, NC, Sampson County, NDB RWY 6, Amdt 6, CANCELLED

Fayetteville, NC, Fayetteville Regional/Grannis Field, NDB RWY 4, Amdt 15, CANCELLED

Jefferson, NC, Ashe County, NDB RWY 28, Amdt 1, CANCELLED

Kenansville, NC, Duplin County, NDB RWY 23, Orig-A, CANCELLED

Maxton, NC, Laurinburg-Maxton, NDB RWY 5, Amdt 1, CANCELLED

North Wilkesboro, NC, Wilkes County, NDB RWY 1, Amdt 2C, CANCELLED

Raleigh-Durham, NC, Raleigh-Durham Intl, NDB RWY 23L, Amdt 5, CANCELLED

Rocky Mount, NC, Rocky Mount-Wilson Regional, NDB RWY 4, Amdt 9, CANCELLED

Roxboro, NC, Person County, NDB RWY 6, Amdt 3, CANCELLED

Sanford, NC, Sanford Lee County Regional Airport, NDB RWY 3, Orig, CANCELLED

Washington, NC, Warren Field, NDB RWY 5, Orig-B, CANCELLED

Bellefontaine, OH, Bellefontaine Regional, NDB RWY 7, Orig, CANCELLED

Bellefontaine, OH, Bellefontaine Regional, NDB RWY 25, Orig, CANCELLED

Cincinnati, OH, Cincinnati-Blue Ash, NDB RWY 24, Amdt 2, CANCELLED

Columbus, OH, Port Columbus Intl, NDB RWY 10R, Amdt 7B, CANCELLED

Columbus, OH, Port Columbus Intl, NDB RWY 10L, Amdt 8C, CANCELLED

Columbus, OH, Port Columbus Intl, NDB RWY 28L, Amdt 13B, CANCELLED

Columbus, OH, Port Columbus Intl, NDB RWY 28R, Orig-C, CANCELLED

Dayton, OH, James M. Cox Dayton Intl, NDB RWY 6L, Amdt 6, CANCELLED

Toledo, OH, Toledo Express, NDB RWY 7, Amdt 24B, CANCELLED

Ardmore, OK, Ardmore Muni, NDB RWY 31, Amdt 5, CANCELLED

Bartlesville, OK, Frank Phillips, NDB RWY 17, Amdt 1A, CANCELLED

Enid, OK, Enid Woodring Muni, NDB RWY 35, Amdt 6B, CANCELLED

McAlester, OK, McAlester Regional, NDB RWY 1, Amdt 3, CANCELLED

Oklahoma City, OK, Will Rogers World, NDB RWY 35L, Orig-A, CANCELLED

Oklahoma City, OK, Will Rogers World, NDB RWY 35R, Amdt 5D, CANCELLED

Ponca City, OK, Ponca City Rgnl, NDB RWY 17, Amdt 5, CANCELLED

Stillwater, OK, Stillwater Regional, RNAV (GPS) RWY 17, Orig

Stillwater, OK, Stillwater Regional, RNAV (GPS) RWY 35, Orig

Stillwater, OK, Stillwater Regional, ILS OR LOC RWY 17, Amdt 2

Stillwater, OK, Stillwater Regional, VOR RWY 17, Amdt 14

Stillwater, OK, Stillwater Regional, VOR/DME RWY 35, Amdt 1

Stillwater, OK, Stillwater Regional, NDB RWY 17, Amdt 1

Stillwater, OK, Stillwater Regional, GPS RWY 17, Orig, CANCELLED

Stillwater, OK, Stillwater Regional, GPS RWY 35, Orig, CANCELLED

Altoona, PA, Altoona-Blair County, RNAV (GPS) Y RWY 21, Orig

Altoona, PA, Altoona-Blair County, RNAV (GPS) Z RWY 21, Orig

St Marys, PA, St Marys Muni, VOR RWY 28, Amdt 7

St Marys, PA, St Marys Muni, LOC/DME RWY 28, Amdt 3

St Marys, PA, St Marys Muni, RNAV (GPS) RWY 28, Orig

St Marys, PA, St Marys Muni, VOR/DME RNAV RWY 28, Amdt 5, CANCELLED

St Marys, PA, St Marys Muni, Takeoff Minimums and Textual DP, Amdt 2

San Juan, PR, Luis Munoz Marin Intl, NDB RWY 10, Amdt 6, CANCELLED

Providence, RI, Theodore Francis Green State, NDB RWY 5, Amdt 15D, CANCELLED

Providence, RI, Theodore Francis Green State, ILS OR LOC RWY 5, Amdt 18A; ILS RWY 5 (CAT II), Amdt 18A; ILS RWY 5 (CAT III), Amdt 18A

Providence, RI, Theodore Francis Green State, ILS OR LOC RWY 23, Amdt 5A

Charleston, SC, Charleston AFB/Intl, NDB RWY 15, Amdt 18A, CANCELLED

Greer, SC, Greenville-Spartanburg Intl-Roger Milliken, NDB RWY 4, Amdt 15, CANCELLED

North Myrtle Beach, SC, Grand Strand, NDB RWY 23, Amdt 11, CANCELLED

Rock Hill, SC, Rock Hill/York County/Bryant Field, NDB RWY 2, Orig-D, CANCELLED

Huron, SD, Huron Regional, LOC/DME BC RWY 30, Amdt 13

Huron, SD, Huron Regional, RNAV (GPS) RWY 30, Amdt 1

Rapid City, SD, Rapid City Regional, NDB RWY 32, Amdt 3C, CANCELLED

Sioux Falls, SD, Joe Foss Field, NDB RWY 3, Amdt 24B, CANCELLED

Bristol/Johnson/Kingsport, TN, Tri-Cities Rgnl TN/VA, NDB RWY 5, Amdt 17, CANCELLED

Bristol/Johnson/Kingsport, TN, Tri-Cities Rgnl TN/VA, NDB RWY 23, Amdt 19, CANCELLED

Dyersburg, TN, Dyersburg Muni, NDB RWY 4, Amdt 1, CANCELLED

Knoxville, TN, McGhee Tyson, NDB RWY 5L, Amdt 5, CANCELLED

McMinnville, TN, Warren County Memorial, NDB RWY 23, Amdt 1, CANCELLED

Memphis, TN, Memphis Intl, NDB RWY 9, Amdt 27A, CANCELLED

Millington, TN, Millington Muni, RNAV (GPS) RWY 22, Orig

Millington, TN, Millington Muni, GPS RWY 22, Orig, CANCELLED

Nashville, TN, Nashville Intl, NDB RWY 20R, Amdt 8, CANCELLED

Oneida, TN, Scott Muni, NDB RWY 23, Amdt 5, CANCELLED

Beaumont/Port Arthur, TX, Southeast Texas Regional, NDB RWY 12, Amdt 18, CANCELLED

Brownsville, TX, Brownsville/South Padre Island Intl, NDB RWY 13R, Amdt 14, CANCELLED

Castroville, TX, Castroville Muni, RNAV (GPS) RWY 15, Orig

Castroville, TX, Castroville Muni, RNAV (GPS) RWY 33, Orig

Castroville, TX, Castroville Muni, NDB RWY 33, Amdt 4

College Station, TX, Easterwood Field, NDB RWY 34, Amdt 12, CANCELLED

Corpus Christi, TX, Corpus Christi Intl, NDB RWY 13, Amdt 25A, CANCELLED

Dallas, TX, Addison, NDB RWY 15, Amdt 6, CANCELLED

El Paso, TX, El Paso Intl, NDB RWY 22, Amdt 29, CANCELLED

Fort Worth, TX, Fort Worth Meacham Intl, NDB RWY 16, Amdt 6, CANCELLED

Harlingen, TX, Valley Intl, NDB RWY 17L, Amdt 7, CANCELLED

Harlingen, TX, Valley Intl, NDB RWY 17R, Amdt 13, CANCELLED

Houston, TX, Ellington Field, NDB RWY 22, Orig, CANCELLED

Houston, TX, George Bush Intercontinental Houston, NDB Rwy 26L, Amdt. 3, CANCELLED

Houston, TX, Sugar Land Regional, NDB RWY 35, Amdt 5A, CANCELLED

Houston, TX, William P. Hobby, RNAV (GPS) RWY 4, Amdt 2

Houston, TX, William P. Hobby, RNAV (GPS) RWY 12R, Amdt 1

Houston, TX, William P. Hobby, RNAV (GPS) RWY 22, Amdt 2

Houston, TX, William P. Hobby, RNAV (GPS) RWY 30L, Amdt 1

Houston, TX, William P. Hobby, ILS OR LOC RWY 4, Amdt 39

Houston, TX, William P. Hobby, ILS OR LOC RWY 12R, Amdt 12

Lubbock, TX, Lubbock Preston Smith Intl, NDB RWY 17R, Amdt 15A, CANCELLED

Lubbock, TX, Lubbock Preston Smith Intl, NDB RWY 26, Amdt 2B, CANCELLED

Lufkin, TX, Angelina County, NDB RWY 7, Amdt 2A, CANCELLED

Mc Allen, TX, Mc Allen Miller Intl, NDB RWY 13, Amdt 6B, CANCELLED

Midland, TX, Midland International, NDB RWY 10, Amdt 10A, CANCELLED

Mineral Wells, TX, Mineral Wells, NDB RWY 31, Amdt 2A, CANCELLED

Monahans, TX, Roy Hurd Memorial, NDB RWY 12, Orig-A, CANCELLED

Nacogdoches, TX, A. L. Mangham Jr. Regional, NDB RWY 36, Amdt 1A, CANCELLED

Palestine, TX, Palestine Muni, NDB RWY 18, Amdt 4, CANCELLED

San Antonio, TX, San Antonio Intl, NDB RWY 3, Amdt 38A, CANCELLED

San Antonio, TX, San Antonio Intl, NDB RWY 12R, Amdt 21, CANCELLED

San Antonio, TX, San Antonio Intl, NDB RWY 30L, Amdt 12, CANCELLED

San Antonio, TX, San Antonio Intl, RNAV (GPS) RWY 21, Amdt 1

Waco, TX, TSTC Waco, NDB RWY 17L, Amdt 9B, CANCELLED

Waco, TX, Waco Regional, NDB RWY 19, Amdt 18A, CANCELLED

Emporia, VA, Emporia-Greensville Regional, NDB RWY 33, Orig-A, CANCELLED

Marion/Wytheville, VA, Mountain Empire, NDB RWY 26, Amdt 1A, CANCELLED

Martinsville, VA, Blue Ridge, NDB RWY 30, Amdt 2B, CANCELLED

Melfa, VA, Accomack County, NDB RWY 3, Orig, CANCELLED

Petersburg, VA, Dinwiddie County, NDB RWY 5, Amdt 5, CANCELLED

Richmond, VA, Chesterfield County, RNAV (GPS) RWY 15, Orig

Richmond, VA, Chesterfield County, RNAV (GPS) RWY 33, Orig

Richmond, VA, Chesterfield County, ILS OR LOC RWY 33, Amdt 2

Richmond, VA, Richmond/Chesterfield County, VOR/DME OR GPS RWY 15, Orig-B, CANCELLED

Richmond, VA, Richmond/Chesterfield County, NDB OR GPS RWY 33, Amdt 7C, CANCELLED

Richmond/Ashland, VA, Hanover County Muni, NDB RWY 16, Orig-D, CANCELLED

Roanoke, VA, Roanoke Regional/Woodrum Field, NDB RWY 33, Amdt 10, CANCELLED

Christiansted, VI, Henry E Rohlsen, NDB RWY 10, Amdt 13A, CANCELLED

Burlington, VT, Burlington Intl, NDB RWY 15, Amdt 19F, CANCELLED

Everett, WA, Snohomish County (Paine Field), ILS OR LOC RWY 16R, Amdt 20

Everett, WA, Snohomish County (Paine Field), VOR RWY 16R, Orig

Everett, WA, Snohomish County (Paine Field), VOR/DME RWY 16R, Orig

Everett, WA, Snohomish County/Paine Field, GPS RWY 16R, Orig-B, CANCELLED

Everett, WA, Snohomish County/Paine Field, GPS RWY 34L, Orig-A, CANCELLED

Everett, WA, Snohomish County/Paine Field, VOR OR GPS-B, Orig-C, CANCELLED

Everett, WA, Snohomish County (Paine Field), RNAV (GPS) RWY 16R, Orig

Everett, WA, Snohomish County (Paine Field), RNAV (GPS) RWY 34L, Orig

Everett, WA, Snohomish County (Paine Field), Takeoff Minimums and Textual DP, Amdt 2

Appleton, WI, Outagamie County Regional, NDB RWY 3, Amdt 14E, CANCELLED

Appleton, WI, Outagamie County Regional, NDB RWY 29, Amdt 1B, CANCELLED

Green Bay, WI, Austin Straubel Intl, NDB RWY 6, Amdt 17A, CANCELLED

Madison, WI, Dane County Regional-Truax Field, NDB RWY 36, Amdt 29, CANCELLED

Sheboygan, WI, Sheboygan County Memorial, NDB RWY 21, Amdt 1, CANCELLED

Effective 1 Sep 2005

Mc Gregor, MN, Isedor Iverson, RNAV (GPS) RWY 14, Orig

Mc Gregor, MN, Isedor Iverson, RNAV (GPS) RWY 32, Orig

[FR Doc. 05-11667 Filed 6-15-05; 8:45 am]

BILLING CODE 4910-13-P